DEPARTMENT OF COMMERCE

National Oceanic and Atmospheric Administration

15 CFR Part 930

[Docket No. 990723202-9202-01]

RIN 0648—AM88

Coastal Zone Management Act Federal Consistency Regulations

AGENCY: Office of Ocean and Coastal Resource Management (OCRM), National Ocean Service (NOS), National Oceanic and Atmospheric Administration (NOAA), Department of Commerce (DOC).

ACTION: Proposed rule; reopening of public comment period.

SUMMARY: On April 14, 2000, the National Oceanic and Atmospheric Administration (NOAA) proposed to revise the federal consistency regulations. The comment period expired on May 30, 2000. This document reopens the public comment period on the proposed rule until June 15, 2000.

DATES: Comments on the proposed rule will be considered if mailed on or before June 15, 2000.

ADDRESSES: All comments concerning these proposed regulations should be mailed to Joseph A. Uravitch, Chief, Coastal Programs Division, Office of Ocean and Coastal Resource Management (N/ORM3), 1305 East-West Highway, 11th Floor, Silver Spring, MD 20910.

FOR FURTHER INFORMATION CONTACT: David W. Kaiser, Federal Consistency Coordinator, Office of Ocean and Coastal Resource Management (N/ORM3), 1305 East-West Highway, 11th Floor, Silver Spring, MD 20910, Telephone: 301-713-3098, extension 144.

SUPPLEMENTARY INFORMATION: On April 14, 2000, the National Oceanic and Atmospheric Administration (NOA) proposed to revise the federal consistency regulations, 65 FR 20270, April 14, 2000. The time for public comment expired on May 30, 2000. Prior to the expiration of the comment period, OCRM received several requests to extend the time for public comment on the proposed rule. OCRM has decided to extend the original 45 day comment period to 60 days. Because the comment period has already expired, this document reopens the public comment period. The time for the public to submit comments now ends on June 15, 2000.

Dated: May 26, 2000.
John Oliver,
Director, Management and Budget Office, National Ocean Service.

[FR Doc. 00-13685 Filed 5-31-00; 8:45 am]

BILLING CODE 3510-08-M